DEPARTMENT OF HEALTH AND HUMAN SERVICES

Centers for Disease Control and Prevention

[Program Announcement 00070]

Implementation of the National Arthritis Action Plan: Arthritis Education and Control; Notice of Availability of FY 2000 Funds

A. Purpose

The Centers for Disease Control and Prevention (CDC) announces the availability of fiscal year (FY) 2000 funds for a grant with the Edward E. Roybal Comprehensive Health Center to assist with the development and implementation of arthritis education and control activities consistent with the National Arthritis Action Plan: A Public Health Strategy (NAAP).

CDC is committed to achieving the health promotion and disease prevention objectives of “Healthy People 2010” a national activity to reduce morbidity and mortality and improve the quality of life. This announcement is related to focus area of Arthritis, Osteoporosis, and Chronic Back Conditions. For the conference copy of “Healthy People 2010,” visit the internet site http://www.health.gov/healthypeople.

Although the NAAP lays out a vision and a framework for addressing the arthritis burden nationwide, it also details other strategic initiatives requiring a coordinated, responsible approach involving all levels of the public health structure (national, State, and local); public and private agencies involved in research activities addressing arthritis; health care systems and health care providers. The values of NAAP are to emphasize prevention at all levels (primary, secondary, and tertiary); to use and expand the science base; to seek social equity (e.g., addressing issues faced by the uninsured or under-insured, the poor, the disabled, and minority populations); and to build partnerships. Little is known about arthritis self-management knowledge, attitudes and behaviors among Hispanic populations—nor knowledge, attitudes and treatment strategies among the health care providers who treat arthritis in these populations. While a variety of arthritis self-management programs are available, few have had rigorous evaluation in minority populations.

The purpose of this arthritis education program is to investigate program delivery mechanisms to identify those that adequately engage minority populations. Specific activities to be implemented should target Hispanic populations and may include the development, dissemination or evaluation of existing or modified self management programs, programs to improve early diagnosis and treatment of arthritis, assessment of the use of complementary and alternative treatments for arthritis; the assessment of knowledge, attitudes and behaviors about arthritis; the assessment of knowledge, attitudes, and treatment behaviors among primary care providers providing care in these populations; and validation of commonly used survey tools (e.g., Behavioral Risk Factor Surveillance System (BRFSS) questions addressing arthritis).

B. Eligible Applicant

Assistance will be provided only to the Edward E. Roybal Comprehensive Health Center, 245 S. Fetterly Avenue, Los Angeles, CA 90022. No other applications will be solicited. This sole source solicitation is based on the Conference Report (H.R. Rep. 106-479) at 601 (1999) to the Consolidated Appropriations Act, 2000, Public Law 106-113, which earmarks funding for the Roybal Center in Los Angeles for a program in arthritis care and education.

C. Availability of Funds

Approximately $603,000 is available in FY 2000 to fund this award. It is expected that the award will begin on or about September 1, 2000, and will be made for a 12-month budget period within a project period of one year. Funding estimates may change.

D. Where To Obtain Additional Information

For this and other announcements see the CDC home page on the Internet to obtain a copy of the announcement: http://www.cdc.gov

If you have questions after reviewing the contents of all the documents, business management technical assistance may be obtained from: Glynnis D. Taylor, Grants Management Specialist, Grants Management Branch, Procurement and Grants Office, Announcement 00070, Centers for Disease Control and Prevention (CDC), 2920 Brandywine Road, Room 3000, Atlanta, GA 30341-4146 telephone (770) 488-2752, E-mail address: gld1@cdc.gov

For program technical assistance, contact: Teresa J. Brady, Ph.D., Arthritis Program, Division of Adult and Community Health, National Center for Chronic Disease Prevention and Health Promotion, Centers for Disease Control and Prevention, 4770 Buford Highway NE., Atlanta, GA, 30341-3717, Telephone (770) 488-5856, E-mail address: tob9@cdc.gov

Dated: May 23, 2000.
John L. Williams,
Director, Procurement and Grants Office, Centers for Disease Control and Prevention (CDC).

[FR Doc. 00-13391 Filed 5-26-00; 8:45 am]

BILLING CODE 4163-18-P